DEPARTMENT OF TRANSPORTATION

Federal Aviation Administration

Public Notice for Waiver of Aeronautical Land-Use Assurance

AGENCY: Federal Aviation Administration (FAA), DOT.

ACTION: Notice of intent of waiver with respect to land; Cherry Capital Airport, Traverse City, Michigan.

SUMMARY: The FAA is considering a proposal to change 63.04 acres of airport land from aeronautical use to non-aeronautical use and to authorize the lease of airport property located at Cherry Capital Airport, Traverse City, Michigan. The aforementioned land is not needed for aeronautical use.

The proposed property is located east of the airport terminal area along South Airport Road at the Cherry Capital Airport. The property is currently a wooded area maintained for compatible land use surrounding the airfield. The proposed non-aeronautical land use would be for compatible commercial/industrial development, allowing the airport to become more self-sustaining.

DATES: Comments must be received on or before November 28, 2016.

ADDRESSES: Documents are available for review by appointment at the FAA Detroit Airports District Office, Irene R. Porter, Program Manager, 11677 South Wayne Road, Suite 107, Romulus, Michigan, 48174. Telephone: (734) 229-2915/Fax: (734) 229-2950 and Cherry Capital Administrative Offices, 727 Fly Don't Drive, Traverse City, Michigan. Telephone: (231) 947-2250.

Written comments on the Sponsor's request must be delivered or mailed to: Irene R. Porter, Program Manager, Federal Aviation Administration, Airports Detroit District Office, 11677 South Wayne Road, Suite 107, Romulus, Michigan 48174, Telephone Number: (734) 229-2915/FAX Number: (734) 229-2950.

FOR FURTHER INFORMATION CONTACT: Irene R. Porter, Program Manager, Federal Aviation Administration, Airports Detroit District Office, 11677 South Wayne Road, Suite 107, Romulus, Michigan 48174, Telephone Number: (734) 229-2915/FAX Number: (734) 229-2950.

SUPPLEMENTARY INFORMATION: In accordance with section 47107(h) of Title 49, United States Code, this notice is required to be published in the Federal Register 30 days before modifying the land-use assurance that requires the property to be used for an aeronautical purpose.

The property is currently a wooded area maintained for compatible land use surrounding the airfield. The proposed non-aeronautical land use would be for compatible commercial/industrial development, allowing the airport to become more self-sustaining. The property was originally owned by the City of Traverse City, Michigan and was subject to an AP-4 Instrument of conveyance from the City to the United States Government dated May 17, 1943. At the end of the war the US Government transferred the property back to the City of Traverse City, Michigan. In 1966 the National Emergency Use Provision was released from this property. A portion of the property has a proposed lessor/developer identified and it has been appraised. The airport will receive Fair Market Value for the land to be leased.

The disposition of proceeds from the lease of the airport property will be in accordance with FAA's Policy and Procedures Concerning the Use of Airport Revenue, published in the Federal Register on February 16, 1999 (64 FR 7696).

This notice announces that the FAA is considering the release of the subject airport property at the Cherry Capital Airport, Traverse City, Michigan, from its obligations to be maintained for aeronautical purposes. Approval does not constitute a commitment by the FAA to financially assist in the change in use of the subject airport property nor a determination of eligibility for grant-in-aid funding from the FAA.

Property Description

Part of section 18, T27N, R10W, city of Traverse City, Grand Traverse County, Michigan, described as: Commencing at the west ¼ corner of said section; thence N87°17′57″ E. 333.91 feet along the east and west ¼ line of said section to the point of beginning of this description; thence N04°32′35″ E. 263.99 feet; thence N51°40′33″ E. 69.03 feet; thence S85°26′27″ E. 1772.02 feet; thence S00°18′36″ E. 78.23 feet to a point on the east and west ¼ line which is S87°17′57″ W. 25.02 feet from the center of said section; thence S00°18′36″ E. 1256.35 feet along a line which is 25 feet west of and parallel with the north and south ¼ line of said section to the northerly right of way of South Airport Road; thence westerly along said right of way 102.65 feet along a 1834.86 foot radius curve to the right, the long chord of which bears S86°06′31″ W. 102.64 feet; thence continuing along said right of way S87°42′41″ W. 1964.65 feet; thence N04°32′35″ E. 101.31 feet; thence N48°01′46″ E. 169.59 feet; thence N04°32′35″ E. 1043.74 feet to the point of beginning of this description. Containing 63.04 acres.

Issued in Romulus, Michigan, on October 12, 2016.
John L. Mayfield, Jr.,
Manager, Detroit Airports District Office, FAA, Great Lakes Region.

[FR Doc. 2016-26088 Filed 10-27-16; 8:45 am]

BILLING CODE 4910-13-P